DEPARTMENT OF HOMELAND SECURITY

Coast Guard

33 CFR Part 117

[Docket No. USCG-2025-0169]

RIN 1625-AA09

Drawbridge Operation Regulation; Honker Cut, Between Empire Tract and King Island at Stockton, San Joaquin County, CA

AGENCY: Coast Guard, Department of Homeland Security (DHS).

ACTION: Temporary interim rule with request for comments.

SUMMARY: The Coast Guard is temporarily changing the operating schedule that governs the San Joaquin County (Eightmile Road) bridge, across Honker Cut, mile 0.3, between Empire Tract and King Island at Stockton, San Joaquin County, CA. This action is necessary to allow the bridge owner to complete critical mechanical and structural rehabilitation of the bridge after an unexpected delay due to finding additional components during rehabilitation that need repairs. We invite your comments on this rulemaking.

DATES:

Effective period: This temporary interim rule is effective without actual notice from April 7, 2025, through June 27, 2025. For the purposes of enforcement, actual notice will be used from 4 p.m. on March 29, 2025, through April 7, 2025.

Comment due date: Comments and related material must reach the Coast Guard on or before May 7, 2025.

ADDRESSES: To view documents mentioned in this preamble as being available in the docket, go to https://www.regulations.gov. Type the docket number “USCG-2025-0169” in the “SEARCH” box and click “SEARCH”. In the Document Type column, select “Supporting & Related Material”.

You may submit comments identified by docket number USCG-2025-0169 using Federal Decision-Making Portal at https://www.regulations.gov.

See the “Public Participation and Request for Comments” portion of the SUPPLEMENTARY INFORMATION section below for instructions on submitting comments. This rule with its plain-language, 100-word-or-less rule summary will be available in this same docket.

FOR FURTHER INFORMATION CONTACT: If you have questions on this temporary interim rule, call or email Carl Hausner, Chief, Bridge Section, Eleventh Coast Guard District; telephone 571-607-2207, email Carl.T.Hausner@uscg.mil.

SUPPLEMENTARY INFORMATION:

I. Table of Abbreviations

CFR Code of Federal Regulations

DHS Department of Homeland Security

FR Federal Register

NPRM Notice of proposed rulemaking

Pub. L. Public Law

§ Section

U.S.C. United States Code

II. Background Information and Regulatory History

The Coast Guard is issuing this temporary interim rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b), the Coast Guard finds that good cause exists for not publishing a notice of proposed rulemaking (NPRM) with respect to this rule because it is impracticable. This bridge is non-operational and will remain non-operational until rehabilitation work can be completed.

On October 1, 2024, and January 31, 2025, the Coast Guard issued consecutive Temporary Deviations which allowed the bridge owner, San Joaquin County, to deviate from the current operating schedule in 33 CFR 117.161 to conduct critical mechanical and structural rehabilitation of the bridge. During the late stages of the project, further structural deficiencies of the bridge were discovered by the contractor which will cause the project to run past the scheduled end date of March 29, 2025, of the last Temporary Deviation. The bridge cannot be brought back to operating condition until the rehabilitation of the bridge has been fully completed and tested. Therefore, there is insufficient time to provide a reasonable comment period and then consider those comments before issuing the modification.

However, we will be soliciting comments on this rulemaking during the first 30 days while this rule is in effect. If the Coast Guard determines that changes to the temporary interim rule are necessary, we will publish a temporary final rule or other appropriate document.

Under 5 U.S.C. 553(d)(3), the Coast Guard finds that good cause exists for making it effective in less than 30 days after publication in the Federal Register. For reasons presented above, delaying the effective date of this rule would be impracticable and contrary to the public interest due to the fact that the bridge is currently inoperable and will not be back into operation until the rehabilitation work can be completed.

III. Legal Authority and Need for Rule

The Coast Guard is issuing this temporary interim rule under authority in 33 U.S.C. 499. The Coast Guard is changing the operating schedule in 33 CFR 117.161, which governs the draw of the San Joaquin County (Eightmile Road) bridge, across Honker Cut, mile 0.3, between Empire Tract and King Island at Stockton, San Joaquin County, CA. The San Joaquin County (Eightmile Road) bridge is a swing bridge that has a vertical clearance in the closed position of 10.1 feet over high water and unlimited vertical clearance when in the fully opened-to-navigation position. San Joaquin County, the bridge owner, has requested additional time to complete bridge rehabilitation.

Bridge logs taken by San Joaquin County between 2021-2023 showed there were a total of 16 openings, comprising mostly of vessel passages by tug or barge units and houseboats.

IV. Discussion of the Temporary Interim Rule

The Coast Guard is issuing this rule, which permits a Temporary Deviation from the operating schedule that governs the draw of the San Joaquin County (Eightmile Road) bridge, across Honker Cut, mile 0.3, between Empire Tract and King Island at Stockton, San Joaquin County, CA. This rule allows the bridge to be secured in the closed-to-navigation position from 4 p.m. on March 29, 2025, through 7 p.m. on June 27, 2025.

As part of the bridge rehabilitation, San Joaquin County has replaced, adjusted, and rebuilt key mechanical components that drive the drawspan's operation. On February 14, 2025, San Joaquin County informed the Coast Guard their contractor unexpectedly found damaged rods in an obscure location that must be replaced for the bridge to be functional. In conclusion, the new rods will need to be fabricated and will take them beyond the project's scheduled ending date of the existing Temporary Deviation period of March 29, 2025.

V. Regulatory Analyses

We developed this temporary interim rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under Executive Order 12866, as amended by Executive Order 14094 (Modernizing Regulatory Review). Accordingly, it has not been reviewed by the Office of Management and Budget (OMB).

This regulatory action determination is based on the fact that little or no commercial or recreational vessel traffic will be impacted by this rule. Furthermore, the swing span of the bridge, as of date of the publication of this rule, is not safely operational and cannot resume operations until delivery of new rods, and the replacement of the damaged rods are made.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the bridge may be small entities, for the reasons stated in section V.A above, this rule will not have a significant economic impact on any vessel owner or operator. Vessel owner or operators can use an alternate route to reach either side of the bridge.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have Tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table 3-1 of Appendix A, Table 1 of DHS Instruction Manual 023-01-001-01, Rev. 1.

Neither a Record of Environmental Consideration nor a Memorandum for the Record are required for this rule. We seek any comments or information that may lead to the discovery of a significant environmental impact from this rule.

VI. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0169 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this rule as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments are posted, or a final rule is published of any posting or updates to the docket.

We review all comments received, but we will only post comments that address the topic of the rule. We may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

§ 117.161 [Stayed]

2. Stay § 117.161.

3. Add § 117.162T to read as follows:

§ 117.162T Honker Cut.

The draw of the San Joaquin County (Eightmile Road) bridge, mile 0.3 between Empire Tract and King Island at Stockton need not open for the passage of vessels.

Dated: March 28, 2025.
Taylor Q. Lam,
Captain, U.S. Coast Guard, Acting Commander, Eleventh Coast Guard District.

[FR Doc. 2025-05875 Filed 4-4-25; 8:45 am]

BILLING CODE 9110-04-P